DEPARTMENT OF THE INTERIOR

Fish and Wildlife Service

50 CFR Part 92

[Docket No. FWS-R7-MB-2020-0022; FXMB12610700000-201-FF07M01000]

RIN 1018-BF12

Migratory Bird Subsistence Harvest in Alaska; Updates to the Regulations

AGENCY: Fish and Wildlife Service, Interior.

ACTION: Final rule.

SUMMARY: The U.S. Fish and Wildlife Service (Service or we) is revising the migratory bird subsistence harvest regulations in Alaska. These regulations allow for the continuation of customary and traditional subsistence uses of migratory birds in Alaska and prescribe regional information on when and where the harvesting of birds may occur. These regulations were developed under a co-management process involving the Service, the Alaska Department of Fish and Game, and Alaska Native representatives. This rule incorporates regulatory revisions requested by these partners.

DATES: This rule is effective December 17, 2020.

ADDRESSES: You may find the comments submitted on the proposed rule at the Federal eRulemaking Portal: http://www.regulations.gov in Docket No. FWS-R7-MB-2020-0022.

FOR FURTHER INFORMATION CONTACT: Cheryl Graves, U.S. Fish and Wildlife Service, 1011 E Tudor Road, Mail Stop 201, Anchorage, AK 99503; (907) 786-3887.

SUPPLEMENTARY INFORMATION:

Background

The Migratory Bird Treaty Act of 1918 (MBTA, 16 U.S.C. 703 et seq.) was enacted to conserve certain species of migratory birds and gives the Secretary of the Interior the authority to regulate the harvest of these birds. The law further authorizes the Secretary to issue regulations to ensure that the indigenous inhabitants of the State of Alaska may take migratory birds and collect their eggs for nutritional and other essential needs during seasons established by the Secretary “so as to provide for the preservation and maintenance of stocks of migratory birds” (16 U.S.C. 712(1)).

The take of migratory birds for subsistence uses in Alaska occurs during the spring and summer, during which timeframe the sport harvest of migratory birds is not allowed. Regulations governing the subsistence harvest of migratory birds in Alaska are located in title 50 of the Code of Federal Regulations (CFR) in part 92. These regulations allow for the continuation of customary and traditional subsistence uses of migratory birds and prescribe regional information on when and where the harvesting of birds in Alaska may occur. The migratory bird subsistence harvest regulations are developed cooperatively by the Alaska Migratory Bird Co-Management Council (Council), which consists of the U.S. Fish and Wildlife Service, the Alaska Department of Fish and Game (ADFG), and representatives of Alaska's Native population. The Council's primary purpose is to develop recommendations pertaining to the subsistence harvest of migratory birds.

This rule incorporates changes to the subsistence harvest regulations that were recommended by the Council in 2018 and 2019, as described below. This rule also sets forth a list of migratory bird season openings and closures in Alaska by region.

Comments Received on the Proposed Rule

Per the collaborative process described above, we published a proposed rule to update the regulations for the taking of migratory birds for subsistence uses in Alaska during the spring and summer (85 FR 27698, May 11, 2020). By the end of the comment period on the proposed rule, we received nine comments. While some of the comments pertained to issues that are outside the scope of this rulemaking action, we hereby respond to the relevant issues that were raised in the public input. We made no changes to the proposed rule as a result of the input we received via the public comments (see Final Regulations, below, for more information).

Issue: A commenter expressed support for regulations that allow indigenous people to engage in their traditional subsistence and cultural practices. Another commenter indicated that the regulations seem to allow for “a truly sustainable system,” but the proposed rule did not include information about limits to individual harvests.

Response: The Service's intent of these regulations is to maintain sustainable populations of migratory birds concurrent with ensuring the continuation of customary, traditional, and cultural harvest of migratory birds by rural residents of Alaska who are eligible participants.

The distribution, types of species, and levels of migratory bird harvest during the spring-summer subsistence season in Alaska are based on tradition, culture, and nutritional needs. Harvest levels are based on a tradition of: Take only what is needed and leave the rest for future generations. The Service monitors the distribution, abundance, and trend of migratory bird species via aerial and ground-based surveys and banding programs; adaptive harvest management is based on these data.

Issue: Some commenters expressed objections regarding Federal regulations that allow killing of migratory birds for any purposes, including subsistence uses.

Response: The MBTA authorizes the indigenous inhabitants of the State of Alaska to take migratory birds and collect their eggs for nutritional and other essential needs during seasons established by the Secretary of the Interior. The proposed rule did not address other types of potential migratory bird mortality or criminal violations of the MBTA.

Issue: A commenter expressed support for Alaska Native customary and traditional migratory bird subsistence harvest throughout the State. However, the commenter has specific concerns about subsistence bird harvest along the city of Kodiak road system.

The commenter expressed concern about wasteful bird harvest along the Kodiak road system associated with the fall-winter sport harvest and thinks that a spring-summer hunt will have the same issues. The commenter believes that wasteful take could pose a serious threat to local bird populations and is concerned that there is no effort to narrow the harvest list beyond the four exceptions related to species of conservation concern. The commenter further expressed concerns about the ability of regulatory officials to administer and police a permit system effectively in a community the size of Kodiak. The commenter believes that allowing a large, nonnative community to take birds along the Kodiak road system could injure subsistence resources.

Response: The regulation will permit the harvest of migratory birds and their eggs during spring-summer in the Kodiak Island Roaded Area by residents of the Kodiak Archipelago Region of Alaska for a 3-year trial period (2020-2022) after which time the regulation would sunset. The Service recognizes the necessity to protect species of conservation concern along the Kodiak road system; thus, spring-summer subsistence hunting and egg gathering in the Roaded Area would remain closed for Arctic terns, Aleutian terns, mew gulls, and emperor geese. Arctic and Aleutian tern nesting colonies have declined by greater than 80 percent in Alaska over the last 20 years, and only a few colonies remain on Kodiak Island, the largest of which are within the Roaded Area. Thus, protecting these tern species from further decline is a high priority of the Service.

Furthermore, the Roaded Area would remain closed to take of mew gulls and eggs because colony-level disturbance from targeted mew gull harvest could be detrimental to nesting terns and mew gull nests, and eggs may be confused with those of terns resulting in incidental harvest of tern eggs. Also, the Roaded Area would remain closed to take of emperor geese out of concern that it would provide unrestricted hunter access to a relatively small wintering population of emperor geese that utilize several bays near the road system, potentially increasing harvest vulnerability of a carefully managed species.

The mandatory registration permit hunt and required reporting of hunter activity and harvest will allow estimation of hunter participation, bird and egg harvest, and harvest composition during the 3-year trial period; this information will be used to inform a potential proposal and a decision to reopen the Roaded Area to subsistence hunting in the future. The Roaded Area registration permit will be administered by the ADFG Division of Subsistence in cooperation with the Sun'aq Tribe of Kodiak. Administration of the registration permit will be similar to that of the registration permit for subsistence hunting administered successfully in Cordova, Alaska, with a reporting rate of 93 percent.

Enforcement of regulations for the Kodiak Island Roaded Area will be the responsibility of the Service's Office of Law Enforcement. Enforcement personnel are aware of cultural and traditional practices of migratory bird subsistence harvest by rural residents of Alaska who are eligible to participate for this permit hunt concurrent with the need to ensure conservation of migratory birds, particularly species of conservation concern; of the necessary adherence to specific regulations requiring a permit and mandatory harvest reporting; and that hunting and egg gathering of Arctic terns, Aleutian terns, mew gulls, and emperor geese would remain closed in the Roaded Area.

Proposed Regulatory Revisions

In the proposed rule, we set forth the same subsistence harvest regulations in subpart D, Annual Regulations Governing Subsistence Harvest, as those from the 2018 and 2019 subsistence harvest seasons (see 83 FR 13684, March 30, 2018, and 84 FR 12946, April 3, 2019) for the 2020 season with the following five exceptions:

(1) Yukon/Kuskokwim Delta Region 30-Day Closure Period

The current date range at the Yukon Delta National Wildlife Refuge to set the 30-day closure period to protect waterbird species during their primary nesting is June 1-August 15. However, this timeframe does not allow for a closure period that sufficiently protects them during early nesting in years that allow early nesting. This rule extends the date range for the 30-day closure by 2 weeks on the front end to provide refuge managers the flexibility to begin the closure period in May in years that allow early nesting.

(2) North Slope Region Unit Boundary Change

This rule adjusts the boundary between the Northern and Southern Units of the North Slope Region in Alaska to move the communities of Atqasuk and Wainwright from the Southern Unit to the Northern Unit. Currently, season dates in the Northern Unit better align with the timing of hunting activities in Atqasuk and Wainwright, relative to spring breakup patterns and the phenology of migratory birds, than those of the Southern Unit. Accordingly, the change will result in season dates that more effectively balance the opportunity for hunters to harvest birds and eggs with an appropriate 30-day closure period to protect birds during the primary nesting period. This change in unit boundaries is not expected to result in increased harvest of birds and eggs in the North Slope Region.

(3) North Slope Region 30-Day Closure Period

While all Alaska subsistence harvest regions, except the Yukon/Kuskokwim Delta (YKD) Region, use fixed dates for the mandatory 30-day primary nesting period closure when bird and egg take is prohibited, the North Slope Borough Fish and Game Management Committee in 2019 asked for flexible dates for the 30-day closure period in the North Slope Region of Alaska. Accordingly, we proposed to allow the dates for the 30-day closure period in the North Slope Region to be changed from fixed dates published in the Federal Register to variable, annually derived dates if environmental and biological conditions warrant such a change. If a change in dates is unwarranted, the dates published in the Federal Register would apply. This rule allows for a protocol similar to that used by the YKD Region that would allow for the 30-day closure dates to be based on reports from field biologists and local villagers of when most birds have initiated nesting. Outreach materials would announce the closure dates.

(4) North Slope Region Special Brant Hunting Season Boundary

This rule changes the southern boundary of the Special Brant Hunting Season on the North Slope Region of Alaska. The regulations currently allow harvest of migrating brant from June 20 through July 5 along the coastline and in open water around the village of Wainwright. The change extends the boundary associated with the Special Black Brant Hunting Season south and west to include the entirety of Kasegaluk Lagoon to provide hunters from the village of Point Lay the opportunity to harvest migrating brant. While this boundary change may increase brant harvest slightly in the North Slope Region, any additional harvest is expected to have negligible impact to brant population status.

(5) Kodiak Archipelago Region Kodiak Island Roaded Area Closure

This rule allows migratory bird hunting and egg gathering by registration permit in the Kodiak Island Roaded Area in the Kodiak Archipelago Region of Alaska for a 3-year trial period (2020-2022). This rule change will allow all residents of the Kodiak Archipelago Region the opportunity to participate in subsistence hunting activities without the need for a boat. Current regulations close the Roaded Area to all subsistence migratory bird hunting and egg gathering, but allow these activities in adjacent marine waters beyond 500 feet from shore, including offshore islands where access requires a watercraft.

The required registration permit and the mandatory reporting of hunter activity and harvest will allow estimation of hunter participation, bird and egg harvest, and harvest composition during the 3-year trial period. These data will inform a potential proposal and decision to reopen the Roaded Area to subsistence hunting in the future. To protect species of conservation concern, spring-summer subsistence hunting and egg gathering for Arctic terns, Aleutian terns, mew gulls, and emperor geese would remain closed in the Roaded Area.

Final Regulations

We are making no changes to the regulatory revisions proposed in our May 11, 2020, document (85 FR 27698) as a result of the input we received via the public comments. We are, however, making two changes to the proposed regulations at § 92.31(g) to correct errors, as described below.

In the proposed revisions to paragraph (g)(1), we included three references to the “North Slope Borough boundary;” in the final rule, we change these references to the “North Slope regional boundary.” The current regulations in § 92.31(g) refer to the “North Slope regional boundary,” and we should have been consistent and used that same terminology in the proposed rule. This correction of the boundary description will have no negative repercussions to subsistence hunters. On the contrary, this change will make the boundary description more accurate, and clarity of geographic boundaries is essential for hunters and for the production of consistent maps for public outreach and regulations booklets.

The proposed revisions to paragraph (g)(4) included this line, which we are now removing, “The 30-day closure period will occur between June 7 and July 29 of each year.” This specific closure period was not part of the Council's proposal. Moreover, this language was not included in the proposed rule in the section of the preamble that described the proposed regulatory changes pertaining to the North Slope Region. Addition of this language was an administrative error, and we remove it from the final rule. As described in the preamble, the closure period will allow for flexible dates based on environmental and biological conditions.

Compliance With the MBTA and the Endangered Species Act

The Service has dual objectives and responsibilities for authorizing a subsistence harvest while protecting migratory birds and endangered and threatened species. Although these objectives continue to be challenging, they are not irreconcilable, provided that: (1) Regulations continue to protect endangered and threatened species; (2) measures to address documented threats are implemented; and (3) the subsistence community and other conservation partners commit to working together.

Mortality, sickness, and poisoning from lead exposure have been documented in many waterfowl species. The Service will work with partners to increase our education, outreach, and enforcement efforts to ensure that subsistence waterfowl hunting is conducted using nontoxic shot.

Conservation Under the MBTA

We have monitored subsistence harvest for more than 25 years through the use of household surveys in the most heavily used subsistence harvest areas, such as the Yukon-Kuskokwim Delta. Based on our monitoring of the migratory bird species and populations taken for subsistence, we find that this rule will provide for the preservation and maintenance of migratory bird stocks as required by the MBTA. Communication and coordination between the Service, the Co-management Council, and the Pacific Flyway Council have allowed us to set harvest regulations to ensure the long-term viability of the migratory bird stocks.

Endangered Species Act Consideration

Section 7 of the Endangered Species Act of 1973, as amended (ESA; 16 U.S.C. 1531 et seq.) requires the Secretary of the Interior to review other programs administered by the Department of the Interior and utilize such programs in furtherance of the purposes of the ESA. The Secretary is further required to insure that any action authorized, funded, or carried out by the Department of the Interior is not likely to jeopardize the continued existence of any endangered species or threatened species or result in the destruction or adverse modification of critical habitat.

Spectacled eiders (Somateria fischeri) and the Alaska-breeding population of Steller's eiders (Polysticta stelleri) are listed as threatened species under the ESA. Their migration and breeding distribution overlap with areas where the spring and summer migratory bird subsistence hunt is open in Alaska. Neither species is included in the list of subsistence migratory bird species at 50 CFR 92.22; therefore, both species are closed to subsistence harvest.

The Alaska Division of Migratory Bird Management conducted an intra-agency consultation with the Service's Fairbanks Fish and Wildlife Field Office on the proposed and a related interim rule (85 FR 18455, April 2, 2020). The consultation was completed with a biological opinion that concluded these rulemaking actions are not likely to jeopardize the continued existence of endangered or threatened species or result in the destruction or adverse modification of designated critical habitat. Therefore, we have determined that this rule complies with the ESA.

Required Determinations

Executive Order 13771—Reducing Regulation and Controlling Regulatory Costs

This rule is not subject to the requirements of Executive Order 13771 (82 FR 9339, February 3, 2017) because this rule would establish annual harvest limits related to routine hunting or fishing.

Regulatory Planning and Review (Executive Orders 12866 and 13563)

Executive Order 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

The Department of the Interior certifies that this rule will not have a significant economic impact on a substantial number of small entities as defined under the Regulatory Flexibility Act (5 U.S.C. 601 et seq.). A regulatory flexibility analysis is not required. Accordingly, a Small Entity Compliance Guide is not required. This rule would legalize a preexisting subsistence activity, and the resources harvested will be consumed.

Small Business Regulatory Enforcement Fairness Act

This rule is not a major rule under 5 U.S.C. 804(2), the Small Business Regulatory Enforcement Fairness Act. This rule:

(a) Would not have an annual effect on the economy of $100 million or more. It legalizes and regulates a traditional subsistence activity. It will not result in a substantial increase in subsistence harvest or a significant change in harvesting patterns. The commodities that will be regulated under this rule are migratory birds. This rule deals with legalizing the subsistence harvest of migratory birds and, as such, does not involve commodities traded in the marketplace. A small economic benefit from this rule derives from the sale of equipment and ammunition to carry out subsistence hunting. Most, if not all, businesses that sell hunting equipment in rural Alaska qualify as small businesses. We have no reason to believe that this rule would lead to a disproportionate distribution of benefits.

(b) Would not cause a major increase in costs or prices for consumers; individual industries; Federal, State, or local government agencies; or geographic regions. This rule does not deal with traded commodities and, therefore, would not have an impact on prices for consumers.

(c) Would not have significant adverse effects on competition, employment, investment, productivity, innovation, or the ability of U.S.-based enterprises to compete with foreign-based enterprises. This rule deals with the harvesting of wildlife for personal consumption. It would not regulate the marketplace in any way to generate substantial effects on the economy or the ability of businesses to compete.

Unfunded Mandates Reform Act

We have determined and certified under the Unfunded Mandates Reform Act (2 U.S.C. 1501 et seq.) that this rule will not impose a cost of $100 million or more in any given year on local, State, or tribal governments or private entities. The rule would not have a significant or unique effect on State, local, or tribal governments or the private sector. A statement containing the information required by the Unfunded Mandates Reform Act is not required.

Participation on regional management bodies and the Co-management Council requires travel expenses for some Alaska Native organizations and local governments. In addition, they assume some expenses related to coordinating involvement of village councils in the regulatory process. Total coordination and travel expenses for all Alaska Native organizations are estimated to be less than $300,000 per year. In a notice of decision (65 FR 16405; March 28, 2000), we identified 7 to 12 partner organizations (Alaska Native nonprofits and local governments) to administer the regional programs. The ADFG also incurs expenses for travel to Council and regional management body meetings. In addition, the State of Alaska would be required to provide technical staff support to each of the regional management bodies and to the Council. Expenses for the State's involvement may exceed $100,000 per year, but should not exceed $150,000 per year. When funding permits, we make annual grant agreements available to the partner organizations and the ADFG to help offset their expenses.

Takings (Executive Order 12630)

Under the criteria in Executive Order 12630, this rule would not have significant takings implications. This rule is not specific to particular land ownership, but applies to the harvesting of migratory bird resources throughout Alaska. A takings implication assessment is not required.

Federalism (Executive Order 13132)

Under the criteria in Executive Order 13132, this rule does not have sufficient federalism implications to warrant the preparation of a federalism summary impact statement. We discuss effects of this rule on the State of Alaska in the Unfunded Mandates Reform Act section, above. We worked with the State of Alaska to develop these regulations. Therefore, a federalism summary impact statement is not required.

Civil Justice Reform (Executive Order 12988)

The Department, in promulgating this rule, has determined that it would not unduly burden the judicial system and that it meets the requirements of sections 3(a) and 3(b)(2) of Executive Order 12988.

Government-to-Government Relations With Native American Tribal Governments

Consistent with Executive Order 13175 (65 FR 67249; November 6, 2000), “Consultation and Coordination with Indian Tribal Governments,” and Department of the Interior policy on Consultation with Indian Tribes (December 1, 2011), we sent letters via electronic mail to all 229 Alaska Federally recognized Indian tribes. Consistent with Congressional direction (Pub. L. 108-199, div. H, Sec. 161, Jan. 23, 2004, 118 Stat. 452, as amended by Pub. L. 108-447, div. H, title V, Sec. 518, Dec. 8, 2004, 118 Stat. 3267), we also sent letters to approximately 200 Alaska Native corporations and other tribal entities in Alaska soliciting their input as to whether or not they would like the Service to consult with them on the migratory bird subsistence harvest regulations.

We implemented the amended treaty with Canada with a focus on local involvement. The treaty calls for the creation of management bodies to ensure an effective and meaningful role for Alaska's indigenous inhabitants in the conservation of migratory birds. According to the Letter of Submittal, management bodies are to include Alaska Native, Federal, and State of Alaska representatives as equals. They develop recommendations for, among other things: Seasons and bag limits, methods and means of take, law enforcement policies, population and harvest monitoring, education programs, research and use of traditional knowledge, and habitat protection. The management bodies involve village councils to the maximum extent possible in all aspects of management. To ensure maximum input at the village level, we required each of the 11 participating regions to create regional management bodies consisting of at least one representative from the participating villages. The regional management bodies meet at least one time each year to review and/or submit proposals to the statewide body.

Paperwork Reduction Act of 1995 (PRA)

This rule does not contain any new collections of information that require Office of Management and Budget (OMB) approval under the PRA (44 U.S.C. 3501 et seq.). We may not conduct or sponsor and you are not required to respond to a collection of information unless it displays a currently valid OMB control number. OMB has reviewed and approved our collection of information associated with voluntary annual household surveys that we use to determine levels of subsistence take (OMB Control Number 1018-0124, expires August 31, 2022).

National Environmental Policy Act Consideration (42 U.S.C. 4321 et seq.)

Implementation of the Service's 2013 supplemental environmental impact statement on the hunting of migratory birds resulted in changes to the overall timing of the annual regulatory schedule for the establishment of migratory bird hunting regulations and the Alaska migratory bird subsistence harvest regulations. The programmatic document, “Second Final Supplemental Environmental Impact Statement: Issuance of Annual Regulations Permitting the Sport Hunting of Migratory Birds (EIS 20130139),” addresses compliance with the National Environmental Policy Act by the Service for issuance of the annual framework regulations for hunting of migratory game bird species. We published a notice of availability in the Federal Register on May 31, 2013 (78 FR 32686), and our Record of Decision on July 26, 2013 (78 FR 45376).

The annual regulations and options are considered in a February 2020 environmental assessment, “Managing Migratory Bird Subsistence Hunting in Alaska: Hunting Regulations for the 2020 Spring/Summer Harvest.” Copies are available from the person listed under FOR FURTHER INFORMATION CONTACT or at http://www.regulations.gov.

Energy Supply, Distribution, or Use (Executive Order 13211)

Executive Order 13211 requires agencies to prepare Statements of Energy Effects when undertaking certain actions. This is not a significant regulatory action under this Executive Order; it allows only for traditional subsistence harvest and improves conservation of migratory birds by allowing effective regulation of this harvest. Further, this rule is not expected to significantly affect energy supplies, distribution, or use. Therefore, a Statement of Energy Effects is not required.

List of Subjects in 50 CFR Part 92

Hunting, Treaties, Wildlife.

Regulation Promulgation

For the reasons set out in the preamble, we amend title 50, chapter I, subchapter G, of the Code of Federal Regulations as follows:

PART 92—MIGRATORY BIRD SUBSISTENCE HARVEST IN ALASKA

1. The authority citation for part 92 continues to read as follows:

Authority: 16 U.S.C. 703-712.

2. Amend § 92.31 by:

a. Revising paragraph (b)(2);

b. Adding a heading for paragraph (e);

c. Revising the first sentence of paragraph (e) introductory text and adding a sentence following the first sentence;

d. Revising the introductory text of paragraph (g)(1), paragraph (g)(1)(iii), and introductory text of paragraph (g)(2); and

e. Redesignating paragraphs (g)(4) and (5) as paragraphs (g)(5) and (6) and adding a new paragraph (g)(4).

The revisions and additions read as follows:

§ 92.31 Region-specific regulations.

* * * * *

(b) * * *

(2) Closure: 30-day closure dates to be announced by the Service's Alaska Regional Director or his designee, after consultation with field biologists and the Association of Village Council President's Waterfowl Conservation Committee. This 30-day period will occur between May 15 and August 15 of each year. A press release announcing the actual closure dates will be forwarded to regional newspapers and radio and television stations.

* * * * *

(e) Kodiak Archipelago region. The Kodiak Island Roaded Area is open to the harvesting of migratory birds and their eggs by registration permit only as administered by the Alaska Department of Fish and Game, Division of Subsistence, in cooperation with the Sun'aq Tribe of Kodiak. No hunting or egg gathering for Arctic terns, Aleutian terns, mew gulls, and emperor geese is allowed for the Kodiak Island Roaded Area Registration Permit Hunt. * * *

(g) * * *

(1) Southern Unit (Southwestern North Slope regional boundary northeast to Icy Cape, and everything west of longitude line 161°55′ W and south of latitude line 69°45′ N to the west bank of the Sagavanirktok River and south along the west bank to the North Slope regional boundary, then west to the beginning):

* * * * *

(iii) Special Black Brant Hunting Season: June 20-July 5. The open area consists of the coastline from the mean high-water line outward to the North Slope regional boundary to include open water and barrier islands from southern Kasegaluk Lagoon from latitude line 69°16′ N to the north and east to longitude line 158°30′ W.

(2) Northern Unit (From Icy Cape, everything east of longitude line 161°55′ W and north of latitude line 69°45′ N to the west bank of Sagavanirktok River and north to 71°):

* * * * *

(4) Annual 30-day closure periods in the Southern, Northern, and Eastern Units of the North Slope Region may differ from fixed dates (see unit-specific closure dates in paragraphs (g)(1) through (3) of this section) if environmental and biological conditions warrant such a change. After consultation with Service field biologists, the North Slope Borough (NSB) Department of Wildlife Management, and the NSB Fish and Game Management Committee, the Service's Alaska Regional Director or his/her designee may announce closure dates that differ from those fixed dates.

* * * * *

George Wallace,
Assistant Secretary for Fish and Wildlife and Parks.

[FR Doc. 2020-24195 Filed 11-16-20; 8:45 am]

BILLING CODE 4333-15-P